ENVIRONMENTAL PROTECTION AGENCY

[FRL-8512-9]

Proposed CERCLA Administrative Cost Recovery Settlement; Mason Road Lead Site, Mason, OH

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement which includes compromise of past response costs incurred in connection with the Mason Road Lead site in Mason Ohio with the Board of Education Mason of Mason City School District. The settlement requires Settling Party to reimburse U.S. EPA Hazardous Substance Superfund $15,917.36 for costs incurred by U.S. EPA since December 11, 2004, through the effective date of this Administrative Order on Consent to oversee the clean-up of the Mason Road Lead site. The total past costs incurred between December 11, 2004, and December 9, 2006, are $19,896.70 and are being compromised in consideration of the settling party having completed a removal action under the terms of a Unilateral Administrative Order Docket No: V-W-04-C-803 issued pursuant to CERCLA section 106(a), 42 U.S.C. 9607(a). The settlement includes a covenant not to sue the settling party pursuant to section 107(a) of CERCLA, 42 U.S.C. 9607(a).

For thirty (30) days following the date of publication of this notice, the Agency will receive written comments relating to the settlement. The Agency will consider all comments received and may modify or withdraw its consent to the settlement if comments received disclose facts or considerations with indicate that the settlement is inappropriate, improper, or inadequate. The U.S. EPA's response to any comments received will be available for public inspection at the U.S. EPA Record Center, Room 714, U.S. EPA, 77 West Jackson boulevard, Chicago, Illinois.

DATES: Comments must be submitted to U.S. EPA on or before 30 days from date of publication of this notice and request for public comment.

ADDRESSES: The proposed settlement is available for public inspection at the U.S. EPA Record Center, Room 714, 77 West Jackson Boulevard, Chicago, Illinois. A copy of the proposed settlement may be obtained from the U.S. EPA Record Center, Room 714, 77 West Jackson Boulevard, Chicago, Illinois or by calling tel. # (312) 353-5821. Comments should reference the Mason Road Lead site in Mason, Ohio and EPA Docket No. and should be addressed to Ms. Susan Prout, U.S. EPA Office of Regional Counsel (C-14J), 77 W. Jackson Boulevard, Chicago, Illinois 60604.

FOR FURTHER INFORMATION CONTACT: Ms. Susan Prout, U.S. EPA Office of Regional Counsel (C-14JA), 77 W. Jackson Boulevard, Chicago, IL 60604 or at tel. # (312) 353-1029.

Dated: December 17, 2007.
Richard C Karl,
Director, Superfund Division, Region 5.

[FR Doc. 07-6253 Filed 12-28-07; 8:45 am]

BILLING CODE 6560-50-M